SOCIAL SECURITY ADMINISTRATION

Privacy Act of 1974; as Amended; New System of Records and New Routine Use Disclosures

AGENCY: Social Security Administration (SSA).

ACTION: New System of Records and Proposed Routine Uses.

SUMMARY: In accordance with the Privacy Act (5 U.S.C. 552a(e)(4) and (e)(11)), we are issuing public notice of our intent to establish a new system of records entitled the Visitor Intake Process/Customer Service Record (VIP/CSR) System, 60-0350, together with routine uses applicable to this system of records. The proposed system of records will consist of information collected from and about visitors to SSA field offices (FOs). This proposed system would assist SSA in improving the services it provides to visitors to our FOs.

DATES: We filed a report of the proposed system of records and routine uses with the Chairman of the Senate Governmental Affairs Committee, the Chairman of the House Government Reform Committee, and the Director, Office of Information and Regulatory Affairs, Office of Management and Budget (OMB) on October 2, 2002. The proposed system of records will become effective on November 11, 2002, unless we receive comments on or before that date that would warrant our not implementing the system of records.

ADDRESSES: Interested individuals may comment on this publication by writing to the SSA Privacy Officer, Social Security Administration, 3-A-6 Operations Building, 6401 Security Boulevard, Baltimore, Maryland 21235-6401. All comments received will be available for public inspection at the above address.

FOR FURTHER INFORMATION CONTACT: Ms. Pamela McLaughlin, Social Insurance Specialist, Social Security Administration, Room 3-C-2 Operations Building, 6401 Security Boulevard, Baltimore, Maryland 21235-6401, telephone (410) 965-3677, e:mail: pam.mclaughlin@ssa.gov.

SUPPLEMENTARY INFORMATION:

I. Background and Purpose of the Proposed New System of Records, the VIP/CSR System, 60-0350

A. General Background

The VIP/CSR System, 60-0350, is designed to simplify and control all stages of interview and appointment tracking. The proposed VIP/CSR System will maintain information that SSA will use for management information and administrative purposes, such as tracking scheduled appointments and monitoring visitor information, and programmatic purposes associated with individuals' claims for benefits under programs administered by SSA.

B. Collection and Maintenance of the Data for the Proposed VIP/CSR System, 60-0350

SSA will collect the information that will be housed in the VIP/CSR System from visitors to SSA FOs, from other SSA Privacy Act systems of records such as the Master Beneficiary Record, Supplemental Security Income and Special Veterans Benefits Record and Claims Folders System, and via SSA processes used in conducting business with visitors (e.g., appointment dates and times). The information will be maintained in manual and electronic formats. The information maintained will include personal information of the visitor such as name, Social Security number (SSN) and date of birth, appointment information and other information relating to the purpose of the visit. (See the “Categories of Records” section of the notice below for a description of the records that will be maintained in the VIP/CSR System.) We will retrieve information from the proposed system of records by using the visitor's/claimant's name and/or SSN. Thus, the VIP/CSR System will constitute a system of records under the Privacy Act.

II. Proposed Routine Use Disclosures of Data Maintained in the Proposed VIP/CSR System, 60-0350

A. Proposed Routine Use Disclosures

We are proposing to establish routine uses of information that will be maintained in the proposed new system as discussed below.

1. To the Office of the President for the purpose of responding to an individual pursuant to an inquiry received from that individual or from a third party on his or her behalf.

We will disclose information under this routine use only in situations in which an individual may contact the Office of the President, seeking that Office's assistance in a matter relating to information contained in this system of records. Information will be disclosed when the Office of the President makes an inquiry and indicates that it is acting on behalf of the individual whose record is requested.

2. To a congressional office in response to an inquiry from that office made at the request of the subject of a record.

We will disclose information under this routine use only in situations in which an individual may ask his or her congressional representative to intercede in a matter relating to information contained in this system of records. Information will be disclosed when the congressional representative makes an inquiry and indicates that he or she is acting on behalf of the individual whose record is requested.

3. To the Department of Justice (DOJ), a court, or other tribunal, or other party before such tribunal when:

(a) SSA, or any component thereof, or

(b) Any SSA employee in his/her official capacity; or

(c) Any SSA employee in his/her individual capacity where DOJ (or SSA where it is authorized to do so) has agreed to represent the employee; or

(d) The United States or any agency thereof where SSA determines that the litigation is likely to affect the operations of SSA or any of its components

is party to litigation or has an interest in such litigation, and SSA determines that the use of such records by DOJ, a court, or other tribunal is relevant and necessary to the litigation, provided, however, that in each case, SSA determines that such disclosure is compatible with the purpose for which the records were collected.

We will disclose information under this routine use only as necessary to enable DOJ to effectively defend SSA, its components or employees in litigation involving the proposed new system of records and ensure that courts and other tribunals have appropriate information.

4. To contractors and other Federal agencies, as necessary, to assist SSA in the efficient administration of its programs.

We will disclose information under this routine use only in situations in which SSA may enter into a contractual agreement or similar agreement with a third party to assist in accomplishing an agency function relating to this system of records.

5. To student volunteers, individuals working under a personal services contract, and other individuals performing functions for SSA but technically not having the status of agency employees, if they need access to the records in order to perform their assigned agency functions.

Under certain Federal statutes, SSA is authorized to use the service of volunteers and participants in certain educational, training, employment and community service programs. Examples of such statutes and programs include: 5 U.S.C. 3111 regarding student volunteers and 42 U.S.C. 2753 regarding the College Work-Study Program. We contemplate disclosing information under this routine use only when SSA uses the services of these individuals, and they need access to information in this system to perform their assigned agency duties.

6. Non-tax return information which is not restricted from disclosure by federal law may be disclosed to the General Services Administration (GSA) and the National Archives and Records Administration (NARA) under 44 U.S.C. 2904 and 2906, as amended by NARA Act of 1984, for the use of those agencies in conducting records management studies.

The Administrator of GSA and the Archivist of NARA are charged by 44 U.S.C. 2904, as amended, with promulgating standards, procedures and guidelines regarding record management and conducting records management studies. 44 U.S.C. 2906, as amended, provides that GSA and NARA are to have access to federal agencies' records and that agencies are to cooperate with GSA and NARA. In carrying out these responsibilities, it may be necessary for GSA and NARA to have access to this proposed system of records. In such instances, the routine use will facilitate disclosure.

B. Compatibility of Proposed Routine Uses

The Privacy Act (5 U.S.C. 552a(b)(3)) and our disclosure regulations (20 CFR part 401) permit us to disclose information under a published routine use for a purpose that is compatible with the purpose for which we collected the information. Section 401.150(c) of SSA Regulations permits us to disclose information under a routine use where necessary to carry out SSA programs. Section 401.120 of SSA Regulations provides that we will disclose information when a law specifically requires the disclosure. The proposed routine uses numbered 1 through 5 above will ensure efficient administration of the VIP/CSR System; the disclosure that would be made under routine use number 6 is required by Federal law. Thus, all the routine uses are appropriate and meet the relevant statutory and regulatory criteria.

III. Records Storage Medium and Safeguards for the Proposed New System, the VIP/CSR System, 60-0350

SSA will maintain information in the VIP/CSR System in electronic and paper form. Only authorized SSA personnel who have a need for the information in the performance of their official duties will be permitted access to the information. We will safeguard the security of the information by requiring the use of access codes to enter the computer system that will maintain the data and will store computerized records in secured areas that are accessible only to employees who require the information to perform their official duties. Any manually maintained records will be kept in locked cabinets or in otherwise secure areas.

Contractor personnel having access to data in the proposed system of records will be required to adhere to SSA rules concerning safeguards, access and use of the data.

SSA and contractor personnel having access to the data on this system will be informed of the criminal penalties of the Privacy Act for unauthorized access to or disclosure of information maintained in this system. See 5 U.S.C. 552a(i)(1).

IV. Effect of the Proposed New System of Records, the VIP/CSR, 60-0350 on the Rights of Individuals

The information that will be maintained in the VIP/CSR System will enable SSA to provide more timely and efficient service to visitors conducting business in SSA FOs. This will increase customer satisfaction with the services SSA provides to the public. Additionally, SSA will adhere to all applicable provisions of the Privacy Act, Social Security Act and other Federal statutes that govern our use and disclosure of the information. Thus, we do not anticipate that this system of records will have an unwarranted effect on the privacy of individuals that will be covered by the VIP/CSR System.

Dated: October 1, 2002.
Jo Anne B. Barnhart,
Commissioner.

60-0350

System Name:

Visitor Intake Process/Customer Service Record (VIP/CSR) System.

Security classification:

None.

System location:

Social Security Administration, Office of Systems, 6401 Security Boulevard, Baltimore, Maryland 21235

Categories of individuals covered by the system:

This system covers visitors to the Social Security Administration (SSA— field offices (FOs) for various purposes (see “Purpose(s):” section below).

Categories of records in the system:

This system contains the following information about each visitor: (1) Visitor information such as Social Security number (SSN), full name and date of birth, when such information is provided by the visitor; (2) visit information such as the time visitor entered and left the office, an assigned group number, number of interviews associated with the visit and remarks associated with the visit; (3) appointment information such as date/time of appointment, source of appointment and appointment unit number (unit establishing appointment); (4) notice information such as close-out notice type (e.g., title II 6-month closeout letter, title XVI SSA-L991) and close-out notice date/time when sent; (5) interview information such as each occurrence, subject of interview, estimated waiting time, preferred language, type of translator, number of interview in queue, interview disposition (e.g., completed, deleted, left without service), interview priority, start and ending time and name of interviewer; and (6) SSN, full name and relationship to claimant/beneficiary, when such information is provided.

Authority for maintenance of the system:

Sections 222, 223, 225, 1611, 1615, 1631 and 1633 of the Social Security Act (42 U.S.C. 422, 423, 425, 1382, 1382d, 1383 and 1383b); the Federal Records Act of 1950 (Pub. L. 81-754, 64 Stat. 583), as amended.

Purpose(s):

Information in this system will be used to:

• Provide a means of collecting waiting time data on all in-office interviews in SSA FOs;

• Provide management information on other aspects of all in-office interviews in SSA FOs;

• Provide a source for customer service record data collection for such interviews, and

• Capture discrete data about the volume and nature of inquiries to support management decisions in the areas of process improvement and resource allocation.

Also, information collected from visitors to SSA FOs will be used for filing claims for benefits under title II, transacting post-entitlement actions if currently entitled to benefits under title II, filing claims for benefits under title XVI, transacting post-eligibility actions if currently eligible for benefits under title XVI, obtaining an SSN, transacting other actions related to a SSN, or other actions/queries that may require an interview at the Social Security Administration (SSA).

Routine uses of records maintained in the system, including categories of users and the purposes of such uses:

Disclosures may be made for routine uses as indicated below.

1. To the Office of the President for the purpose of responding to an individual pursuant to an inquiry received from that individual or from a third party on his or her behalf.

2. To a congressional office in response to an inquiry from that office made at the request of the subject of a record.

3. To the Department of Justice (DOJ), a court, or other tribunal, or other party before such tribunal when:

(a) SSA, or any component thereof, or

(b) Any SSA employee in his/her official capacity; or

(c) Any SSA employee in his/her individual capacity where DOJ (or SSA where it is authorized to do so) has agreed to represent the employee; or

(d) The United States or any agency thereof where SSA determines that the litigation is likely to affect the operations of SSA or any of its components

is party to litigation or has an interest in such litigation, and SSA determines that the use of such records by DOJ, a court, or other tribunal is relevant and necessary to the litigation, provided, however, that in each case, SSA determines that such disclosure is compatible with the purpose for which the records were collected.

4. To contractors and other Federal agencies, as necessary, to assist SSA in the efficient administration of its programs.

5. To student volunteers, individuals working under a personal services contract, and other individuals performing functions for SSA but technically not having the status of agency employees, if they need access to the records in order to perform their assigned agency functions.

6. Non-tax return information which is not restricted from disclosure by federal law may be disclosed to the General Services Administration (GSA) and the National Archives and Records Administration (NARA) under 44 U.S.C. 2904 and 2906, as amended by NARA Act of 1984, for the use of those agencies in conducting records management studies.

Policies and practices for storing, retrieving, accessing, retaining and disposing of records in the system:

Storage:

Records in this system are maintained in both electronic and paper form (e.g., magnetic tape and disc and microfilm).

Retrievability:

Records in this system will be retrieved by the individual's SSN and/or name.

Safeguards:

Security measures include the use of access codes to enter the computer system which will maintain the data, and storage of the computerized records in secured areas which are accessible only to employees who require the information in performing their official duties. SSA employees who have access to the data will be informed of the criminal penalties of the Privacy Act for unauthorized access to or disclosure of information maintained in the system. See 5 U.S.C. 552a(i)(1).

Contractor personnel and/or alternate participants having access to data in the system of records will be required to adhere to SSA rules concerning safeguards, access and use of the data.

Retention and disposal:

Records in this system are retained for one year when they pertain to documents provided by and returned to an individual, denial of requests for confidential information, release of confidential information to an authorized third party, and undeliverable material. Records are maintained for 4 years when they contain information and evidence pertaining to Social Security coverage, wage, and self-employment determinations or when they affect future claims development. Additional information collected such as waiting time information may be retained for longer periods for purposes of analysis and process improvement, without regard to individual records.

The means of disposal of the information in this system will be appropriate to the storage medium (e.g., deletion of individual electronic records or shredding of paper records).

System manager(s) and address:

Associate Commissioner, Office of Systems, Social Security Administration, 6401 Security Boulevard, Baltimore, Maryland 21235.

Notification procedure(s):

An individual can determine if this system contains a record about him/her by writing to the system manager(s) at the above address and providing his/her name, SSN or other information that may be in the system of records that will identify him/her. An individual requesting notification of records in person should provide the same information, as well as provide an identity document, preferably with a photograph, such as a driver's license. If an individual does not have identification documents sufficient to establish his/her identity, the individual must certify in writing that he/she is the person claimed to be and that he/she understands that knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

Record access procedure(s):

Same as “Notification” procedure(s). Requesters also should reasonably specify the record contents they are seeking. These procedures are in accordance with SSA Regulations (20 CFR 401.50).

Contesting record procedure(s):

Same as “Notification” procedures. Requesters also should reasonably identify the record, specify the information they are contesting, and state the corrective action sought and the reasons for the correction with supporting justification showing how the record is untimely, incomplete, inaccurate or irrelevant. These procedures are in accordance with SSA Regulations (20 CFR 401.65).

Record source categories:

Information in this system of records is obtained from information collected from individuals interviewed in person in SSA FOs, from existing systems of records, such as the Claims Folders System, (60-0089), Master Beneficiary Record, (60-0090), Supplemental Security Income Record and Special Veterans Benefits, (60-0103), and from information generated by SSA, such as computer date/time stamps at various points in the interview process.

Systems exempted from certain provisions of the Act:

None.

[FR Doc. 02-25917 Filed 10-10-02; 8:45 am]

BILLING CODE 4191-02-P